COMMITTEE FOR PURCHASE FROM PEOPLE WHO ARE BLIND OR SEVERELY DISABLED

Correction of Notice of Additions and Deletion

In the document appearing on page 56984, FR Doc E7-19717, Procurement List Additions and Deletions, on October 5, 2007, the Committee published the following product and NSNs (Long Format Replacement Pages—FCCL 7510-00-NSH-0257; 7510-01-537-1400) with coverage as A-List for the total Government requirement as specified by the General Services Administration.

This notice corrects the coverage for the above mentioned product and NSNs to B-List for the Broad Government requirement as specified by the General Services Administration.

Kimberly M. Zeich,
Director, Program Operations.

[FR Doc. E7-21172 Filed 10-25-07; 8:45 am]

BILLING CODE 6353-01-P